DEPARTMENT OF HEALTH AND HUMAN SERVICES

Administration on Community Living

Agency Information Collection Activity; Proposed Collection: Public Comment Request; One Protection and Advocacy Annual Program Performance Report

AGENCY: Office of Program Support, Administration on Intellectual and Developmental Disabilities, Administration on Disabilities, Administration for Community Living, HHS.

ACTION: Notice.

SUMMARY: The Administration for Community Living (ACL) is announcing an opportunity for the public to comment on the proposed new data collection (ICR New) listed above. Under the Paperwork Reduction Act of 1995 (the PRA), Federal agencies are required to publish a notice in the Federal Register concerning each proposed collection of information, including each proposed extension of an existing collection of information, and to allow 60 days for public comment in response to the notice.

This notice seeks to collect comments on the proposed new data collection (ICR New), which will replace four existing Protection and Advocacy Program Performance Reports and other revisions. The four annual reports include the following: (1) Developmental Disabilities Protection and Advocacy Systems Program Performance Report (0985-0027), (2) Protection and Advocacy for Assistive Technology (PAAT) Program Performance Report (0985-0046); (3) Protection and Advocacy Voting Access Annual Report (Help America Vote Act) (HAVA) (0985-0028); and (4) Protection and Advocacy for Traumatic Brain Injury (PATBI) Program Performance Report (0985-0058).

State Protection and Advocacy (P&A) Systems in each State and Territory provide individual legal advocacy, systemic advocacy, monitoring and investigations to protect and advance the rights of people with developmental disabilities, using funding administered by the Administration on Intellectual and Developmental Disabilities (AIDD), Administration on Disabilities, Administration for Community Living, HHS. To meet statutory reporting requirements, P&As have used four separate forms for submitting annual reports. It is proposed that the four forms be combined by creating the One Protection and Advocacy Annual Program Performance Report form. Once the four program performance reports are combined, the current OMB approval numbers for each report will be retired, and a new approval number will be created for the One Protection and Advocacy Program Performance Report.

DATES: Comments on the proposed collection of information must be submitted electronically by 11:59 p.m. (EST) on December 11, 2018.

ADDRESSES: Submit electronic comments on the collection of information by email to: Clare.Huerta@acl.hhs.gov.

FOR FURTHER INFORMATION CONTACT: Clare Huerta, Administration for Community Living, Administration on Intellectual and Developmental Disabilities, Office of Program Support, 330 C Street SW, Washington, DC 20201, (202) 795-7301 or Clare.Huerta@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the proposed collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

Each P&A system currently submits four separate reports to AIDD—one report for each of the funding sources listed below. It is proposed that the four forms be combined by creating the One Protection and Advocacy Annual Program Performance Report form. By combining the forms, P&As will have a reduced burden because they will be submitting only one report annually. Duplicative background and other data that appear in multiple reports will only need to be entered once. This also will promote accuracy and consistency because this data will not need to be entered multiple times. The authority for each report is as follows:

• The Developmental Disabilities Assistance and Bill of Rights Act, 42 U.S.C. 15044: Federal statute and regulation require each P&A to annually prepare a report that describes the activities and accomplishments of the system during the preceding fiscal year and a Statement of Goals and Priorities for each coming fiscal year. P&As are required to annually report on “the activities, accomplishments, and expenditures of the system during the preceding fiscal year, including a description of the system's goals, the extent to which the goals were achieved, barriers to their achievement, the process used to obtain public input, the nature of such input, and how such input was used.”

• The Children's Health Act of 2000, 42 U.S.C. Section 300d-53(h), requires the P&A System in each State to annually prepare and submit to the Secretary a report that includes documentation of the progress they have made in serving individuals with traumatic brain injury.

• The Assistive Technology Act of 1998, Section 5, as amended, Public Law 108-36, (AT Act), requires the P&A System in each State to annually prepare and submit to the Secretary a report that includes documentation of the progress they have made in—

1. conducting consumer-responsive activities, including activities that will lead to increased access for individuals with disabilities to funding for assistive technology devices and assistive technology services;

2. engaging in informal advocacy to assist in securing assistive technology and assistive technology services for individuals with disabilities;

3. engaging in formal representation for individuals with disabilities to secure systems change, and in advocacy activities to secure assistive technology and assistive technology services for individuals with disabilities;

4. developing and implementing strategies to enhance the long-term abilities of individuals with disabilities and their family members, guardians, advocates, and authorized representatives to advocate the provision of assistive technology devices and assistive technology services to which the individuals with disabilities are entitled under law other than this Act; and

5. coordinating activities with protection and advocacy services funded through sources other than this title, and coordinating activities with the capacity building and advocacy activities carried out by the lead agency.

• The Help America Vote Act, Public Law 107-252, Title II, Subtitle D, Section 291, (42 U.S.C. 15461), requires each grantee to annually submit a narrative report describing the work performed with the funds authorized under 42 U.S.C. 15461 of the Help America Vote Act of 2002.

To meet the statutory reporting requirements, P&As have used four separate forms for submitting the Developmental Disabilities Protection and Advocacy (PADD) Program Performance Report; the Protection and Advocacy for Assistive Technology (PAAT) Program Performance Report; the Protection and Advocacy Voting Access Annual Report (Help America Vote Act) (HAVA); and the Protection and Advocacy for Traumatic Brain Injury (PATBI) Program Performance Report. The combined form will also allow federal reviewers to analyze patterns more readily between goals, priority setting, and program performance.

The annual program performance report (PPR) is reviewed by federal staff for compliance and outcomes. Information in the PPRs is analyzed to create a national profile of programmatic compliance, outcomes, and goals and priorities for P&A Systems for tracking accomplishments against these goals and priorities and to determine areas needing technical assistance, including compliance with Federal requirements. Information collected in the unified report will inform AIDD of trends in P&A advocacy, collaboration with other federally-funded entities, and identify best practices for efficient use of federal funds.

The Department specifically requests comments on: (a) Whether the proposed Collection of information is necessary for the proper performance of the function of the agency, including whether the information shall have practical utility; (b) the accuracy of the agency's estimate of the burden of the proposed collection of information; (c) the quality, utility, and clarity of the information to be collected; (d) ways to minimize the burden information to be collected; and (e) ways to minimize the burden of the collection of information on respondents, including through the use of automated collection technique comments and or other forms of information technology. Consideration will be given to comments and suggestions submitted within 60 days of this publication.

The annual burden on this form is predicted to be 128 hours which is ten percent less than the total of the four previous PPRs. The reduction in hours comes from the elimination of the requirement to enter duplicative information in each PPR.

PPR | Annual hours estimate (based on previous OMB burden estimates
PADD | 90
PAAT | 16
PATBI | 16
HAVA | 20
PREVIOUS TOTAL | 142
ONE PPR | 128

In compliance with the requirements of Section 506(c)(2)(A) of the Paperwork Reduction Act of 1995, the Administration on Community Living is soliciting public comment on the specific aspects of the information collection described above. The form is available at https://www.acl.gov/about-acl/public-input.

Respondents: 57 Protection and Advocacy Systems.

Annual Burden Estimates
Instrument | Number of respondents | Number of responses per respondent | Average burden hours per response | Total burden hours
One Protection and Advocacy Annual Program Performance Report | 57 | 1 | 128 | 7,296

Estimated Total Annual Burden Hours: 7,296.

Dated: October 4, 2018.
Mary Lazare,
Principal Deputy Administrator.

[FR Doc. 2018-22266 Filed 10-11-18; 8:45 am]

BILLING CODE 4154-01-P